DEPARTMENT OF COMMERCE

International Trade Administration

[Application No. 92-8A001]

Export Trade Certificate of Review

ACTION: Notice of Application (#92-8A001) To amend an export trade certificate of review previously issued to Aerospace Industries Association of America, Inc.

SUMMARY: Export Trading Company Affairs, International Trade Administration, U.S. Department of Commerce, has received an application to amend an Export Trade Certificate of Review (“Certificate”). This notice summarizes the proposed amendment and requests comments relevant to whether the Certificate should be issued.

FOR FURTHER INFORMATION CONTACT: Jeffrey Anspacher, Acting Director, Office of Competition and Economic Analysis, International Trade Administration, (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021X, Washington, DC 20230, or transmitted by E-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 92-8A001.”

The original Certificate for Aerospace Industries Association of America, Inc. was issued on April 10, 1992 (57 FR 13707, April 17, 1992) and last amended on November 12, 2003 (68 FR 66074, November 25, 2003).

A summary of the application for an amendment follows.

Summary of the Application

Applicant: Aerospace Industries Association of America, Inc. (“AIA”), 1000 Wilson Boulevard, Suite 1700, Arlington, Virginia 22209.

Contact: Matthew F. Hall, Counsel, Telephone: (202) 862-9700.

Application No.: 92-8A001.

Date Deemed Submitted: July 7, 2009.

Proposed Amendment: AIA seeks to amend its Certificate to:

1. Delete the following companies as Members of the Certificate: AAI Corporation, Hunt Valley, MD; Argo-Tech Corporation, Cleveland, OH; AstroVision International, Inc., Bethesda, MD; Aviall, Inc., Dallas, TX; B.H. Aircraft Company, Inc., Ronkonkoma, NY; Ball Aerospace & Technologies Corporation, Boulder, CO; Celestica Corporation, Toronto, Ontario; Crane Aerospace & Electronics, Lynwood, WA; Cubic Corporation, San Diego, CA; Dy 4 Systems Limited, Kanata, Ontario; EDO Corporation, New York, NY; Federation, Inc., Centennial, CO; GKN Aerospace Services, Farnham, Surrey, UK; Kistler Aerospace Corporation, Kirkland, WA; 3M Company, St. Paul, MN; Martin-Baker America, Incorporated, Arlington, VA; MatrixOne Inc., Westford, MA; MD Helicopters, Inc., Mesa, AZ; Orbital Sciences Corporation, Dulles, VA; PerkinElmer, Inc., Wellesley, MA; Silicon Graphics, Inc., Mountain View, CA; Smiths Aerospace Actuation Systems, Duarte, CA; Spectrum Astro Inc., Gilbert, AZ; Stellex Aerostructures, Inc., Lebanon, NJ; Swales Aerospace, LLC, Beltsville, MD; Teleflex Inc., Plymouth Meeting, PA; Titan Corporation, San Diego, CA; Triumph Group Inc., Wayne, PA; and United Defense, L.P., Arlington, VA.

2. Add the following companies as new Members of the Certificate within the meaning of section 325.2(l) of the Regulations (15 CFR 325.(l)): AAR Corp., Wood Dale, IL; Accenture, Hartford, CT (controlling entity: Accenture, Ltd., Hamilton Bermuda); Airlaunch LLC, Kirkland, WA; Allfast Fastening Systems, City of Industry, CA; AMSAFE Aviation, Phoenix, AZ; AMT II Corporation, New York, NY; Aurora Flight Sciences Corporation, Manassas, VA; AUSCO, Inc., Port Washington, NY; B/E Aerospace, Inc., Wellington, FL; Belcan Corporation, Cincinnati, OH; Best Foam Fabricators, Inc., Chicago, IL; BreconRidge Corporation, Ottawa, Ontario; CAE USA Inc., Tampa, FL (controlling entity: CAE Inc., Montreal, Canada); Chromalloy Power Services Corporation, San Antonio, TX (controlling entity: Carlyle Group, Washington, DC); Click Bond, Inc., Carson City, NV (controlling entity: Physical Systems, Inc., Carson City, NV); Click Commerce, Inc., Chicago, IL; Cobham, Arlington, VA (controlling entity: Cobham, plc, Winborne, Dorset, United Kingdom); DynCorp International LLC, Falls Church, VA; Eaton Aerospace Operations, Irvine, CA (controlling entity: Eaton Corporation, Cleveland, OH); Eclipse Aviation Corporation, Albuquerque, NM; Electronic Data Systems Corporation, Plano, TX (controlling entity: Hewlett Packard, Palo Alto, CA); Erickson Air-Crane Inc., Portland, OR; ESI North America, Bloomfield Hills, MI (controlling entity: ESI Group, Paris, France); Flextronics International USA, Inc., San Jose, CA (controlling entity: Flextronics International, Ltd., Singapore); Flight Safety International, Inc., Flushing, NY (controlling entity: Berkshire Hathaway Inc., Omaha, NE); FTG Circuits, Inc., Chatsworth, CA (controlling entity: FTG Group Corporation, Toronto, Canada); Groen Brothers Aviation, Inc., Salt Lake City, UT; IBM Corporation, Armonk, NY; LAI International, Inc., Scottsdale, AZ (controlling entity: Spell Capital Partners, LLC, Minneapolis, MN); LMI Aerospace, Inc., St. Charles, MO; Lord Corporation, Cary, NC; Marotta Controls, Inc., Montville, NJ; McKechnie Aerospace, Irvine, CA; Micro-Coax, Inc., Pottstown, PA; Micro-Tronics, Inc., Tempe, AZ; MicroSat Systems, Inc., Littleton, CO (controlling entity: Sierra Nevada Corporation, Sparks, NV); Natel Engineering Company, Inc., Chatsworth, CA; National Machine Group, Stow, OH; National Technical Systems, Inc., Calabasas, CA; Naverus, Inc., Kent, WA; The NORDAM Group, Inc., Tulsa, OK; NYLOK Corporation, Macomb, MI (controlling entity: Berkshire Hathaway, Inc., Omaha, NE); Oracle USA, Inc., Redwood Shores, CA (controlling entity: Oracle Corporation, Redwood Shores, CA); Pall Aeropower Corporation, New Port Richey, FL (controlling entity: Pall Corporation, East Hills, NY); Pinkerton Government Services, Inc., Springfield, VA (controlling entity: Securitas Security Services, USA, Parsippany, NJ); PPG Aerospace, Sylmar, CA (controlling entity: PPG Industries, Pittsburgh, PA); Science Applications International Corporation, San Diego, CA; Siemens PLM Software, Plano, TX (controlling entity: Siemens AG, Munich, Germany); SITA, Atlanta, GA (controlling entity: SITA, Geneva, Switzerland); SM&A, Newport Beach, CA; Southern California Braiding Company, Inc., Bell Gardens, CA; Space Exploration Technologies Corporation, Hawthorne, CA; Sparton Corporation, Jackson, MI; Spirit AeroSystems, Inc., Wichita, KS; TechniGraphics, Inc., Wooster, OH; Timken Aerospace Transmissions, LLC—Purdy Systems, Manchester, CT (controlling entity: The Timken Company, Canton, OH); Vibro-Meter, Inc., Manchester, NH (controlling entity: Meggitt PLC, Christchurch, Dorset, United Kingdom); and WIPRO Technologies, Beaverton, OR (controlling entity: WIPRO Technologies, Bangalore, India).

3. Change the listing of the following Members: “Analytical Graphics, Inc., Malvern, PA” to the new listing “Analytical Graphics, Inc., Exton, PA”; “BAE Systems North America, Inc., Rockville, MD” to the new listing “BAE Systems, Inc., Rockville, MD”; “B&E Tool Company, Inc., Southwick, MA” to the new listing “B&E Group, LLC, Southwick, MA”; “Curtiss-Wright Corporation, Lyndhurst, NJ” to “Curtiss-Wright Corporation, Parsippany, NJ”; “E. I. duPont de Nemours & Company, Wilmington, DE” to “Dupont Company, New Castle, DE”; “General Atomics Aeronautical Systems, Inc., San Diego, CA” to “General Atomics Aeronautical Systems, Inc., Poway, CA”; “HEICO, Miami, FL” to “HEICO Corporation, Hollywood, FL”; “ITT Industries, Inc., McLean, VA” to “ITT Corporation, White Plains, NY”; “L-3 Communications Holdings, Inc., New York, NY” to “L-3 Communications Corporation, New York, NY”; “Raytheon Corporation, Lexington, MA” to “Raytheon Company, Waltham, MA”; and “Woodward Governor Company, Rockford, IL” to “Woodward Governor Company, Fort Collins, CO”.

Dated: July 16, 2009.
Jeffrey Anspacher,
Acting Director, Office of Competition and Economic Analysis.

[FR Doc. E9-17268 Filed 7-20-09; 8:45 am]

BILLING CODE 3510-DR-P